COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products previously furnished by such agencies.

DATES: Comments must be received on or before July 24, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s):

MR 10731—Garden Colander, Includes Shipper 20731

Mandatory Purchase For:

The requirements of military commissaries and exchanges in accordance with the Code of Federal Regulations, Chapter 51, 51-6.4

Mandatory Source(s) of Supply:

Winston-Salem Industries for the Blind, Inc., Wilson-Salem, NC

Contracting Activity:

Defense Commissary Agency

Distribution:

C-List

NSN(s)—Product Name(s):

7220-00-NSH-0022—Mat, Floor, Chair, 45″ x 53″ x .110″, w/20″ x 12″ Lip

7220-00-NSH-0023—Mat, Floor, Chair, 45″ x 53″ x .110″, w/25″ x 12″ Lip

7220-00-NSH-0024—Mat, Floor, Chair, 46″ x 60″ x .110″, w/25″ x 12″ Lip

7220-00-NSH-0025—Mat, Floor, Chair, 46″ x 60″ x .110″, Without Lip

7220-00-NSH-0026—Mat, Floor, Chair, 60″ x 60″ x .110″, Without Lip

7220-00-NSH-0030—Mat, Floor, Chair, 36″ x 48″ x .150″, w/20″ x 12″ Lip

7220-00-NSH-0031—Mat, Floor, Chair, 45″ x 53″ x .150″, w/25″ x 12″ Lip

7220-00-NSH-0032—Mat, Floor, Chair, 45″ x 53″ x .150″, w/20″ x 12″ Lip

7220-00-NSH-0033—Mat, Floor, Chair, 45″ x 53″ x .220″, w/20″ x 12″ Lip

7220-00-NSH-0035—Mat, Floor, Chair, 46″ x 60″ x .150″, Without Lip

7220-00-NSH-0036—Mat, Floor, Chair, 46″ x 60″ x .150″, w/25″ x 12″ Lip

7220-00-NSH-0038—Mat, Floor, Chair, 46″ x 60″ x .220″, w/25″ x 12″ Lip

7220-00-NSH-0039—Mat, Floor, Chair, 46″ x 60″ x .220″, Without Lip

7220-00-NSH-0040—Mat, Floor, Chair, 60″ x 60″ x .150″, Without Lip

Mandatory Purchase For:

Total Government Requirement

Mandatory Source(s) of Supply:

Northeastern Michigan Rehabilitation and Opportunity Center (NEMROC), Alpena, MI

Contracting Activity:

General Services Administration, Fort Worth, TX

Distribution:

A-List

Service

Service Type:

Janitorial Service

Mandatory for:

US Forest Service, Northern California Service Center, 6101 Airport Road, Redding, CA

Mandatory Source(s) of Supply:

Shasta County Opportunity Center, Redding, CA

Contracting Activity:

FOREST SERVICE, PACIFIC SOUTHWEST REGION, San Francisco, CA

Deletions

The following products are proposed for deletion from the Procurement List:

Products

NSN(s)—Product Name(s):

8415-01-579-9752—Multi-Cam Coat

8415-01-579-9622—Multi-Cam Coat

8415-01-579-9621—Multi-Cam Coat

8415-01-579-9747—Multi-Cam Coat

8415-01-579-9749—Multi-Cam Coat

8415-01-579-9745—Multi-Cam Coat

8415-01-579-9753—Multi-Cam Coat

8415-01-579-9756—Multi-Cam Coat

8415-01-579-9759—Multi-Cam Coat

8415-01-579-9762—Multi-Cam Coat

8415-01-579-9616—Multi-Cam Coat

8415-01-579-9773—Multi-Cam Coat

8415-01-579-9776—Multi-Cam Coat

8415-01-579-9781—Multi-Cam Coat

8415-01-580-0068—Multi-Cam Coat

8415-01-580-0075—Multi-Cam Coat

8415-01-579-9850—Multi-Cam Coat

8415-01-580-0077—Multi-Cam Coat

8415-01-579-9852—Multi-Cam Coat

8415-01-579-9864—Multi-Cam Coat

8415-01-579-9840—Multi-Cam Coat

8415-01-579-9843—Multi-Cam Coat

8415-01-579-9847—Multi-Cam Coat

8415-01-579-9827—Multi-Cam Coat

8415-01-579-9830—Multi-Cam Coat

8415-01-579-9833—Multi-Cam Coat

8415-01-579-9836—Multi-Cam Coat

8415-01-579-9801—Multi-Cam Coat

8415-01-579-9806—Multi-Cam Coat

8415-01-579-9811—Multi-Cam Coat

8415-01-579-9814—Multi-Cam Coat

8415-01-579-9782—Multi-Cam Coat

8415-01-579-9784—Multi-Cam Coat

8415-01-579-9823—Multi-Cam Coat

8415-01-579-9789—Multi-Cam Coat

8415-01-579-9794—Multi-Cam Coat

8415-01-579-9795—Multi-Cam Coat

Mandatory Source(s) of Supply:

STEPS, Inc., Farmville, VA

Contracting Activity:

W6QK ACC-APG NATICK, NATICK, MA

NSN(s)—Product Name(s):

8920-01-E62-3504—Cake Mix, Gingerbread; 6—4 lb cans

8920-01-E62-3503—Cake Mix, Gingerbread; 6—5 lb boxes

Mandatory Source(s) of Supply:

Transylvania Vocational Services, Inc., Brevard, NC

Contracting Activity:

Defense Logistics Agency Troop Support

Barry S. Lineback,
Director, Business Operations.

[FR Doc. 2016-14962 Filed 6-23-16; 8:45 am]

BILLING CODE 6353-01-P